DEPARTMENT OF THE INTERIOR

National Park Service

Notice of Inventory Completion: Thomas Burke Memorial Washington State Museum, University of Washington, Seattle, WA; Correction

AGENCY: National Park Service, Interior.

ACTION: Notice; correction.

Notice is here given in accordance with the Native American Graves Protection and Repatriation Act (NAGPRA), 25 U.S.C. 3003, of the completion of an inventory of human remains and associated funerary objects in the possession of the Thomas Burke Memorial Washington State Museum (Burke Museum), University of Washington, Seattle, WA. The human remains and associated funerary objects were removed from Lopez Island, San Juan County, WA.

This notice is published as part of the National Park Service's administrative responsibilities under NAGPRA, 25 U.S.C. 3003(d)(3). The determinations in this notice are the sole responsibility of the museum, institution, or Federal agency that has control of the Native American human remains and associated funerary objects. The National Park Service is not responsible for the determinations in this notice.

This notice corrects the minimum number of individuals from one site (45-SJ-278), the name used to describe another site (45-SJ-288), and the number of associated funerary objects from a third site (45-SJ-185) reported in a Notice of Inventory Completion published in the Federal Register (75 FR 5105-5106, February 1, 2010).

In the Federal Register, paragraph number 7, page 5106, is corrected by the addition of one more individual to site 45-SJ-278 and substituting the following paragraph:

In 1968, human remains representing a minimum of two individuals were removed from site 45-SJ-278, Lopez Island, San Juan County, WA. The human remains were removed by a University of Washington field party led by David Munsell. The collection was transferred from the University of Washington Anthropology Department to the Burke Museum in the 1970s, and was formerly accessioned in 1996 (Burke Accn. #1996-121). In 1998 and 2010, the human remains were found in level bags at the museum. No known individuals were identified. No associated funerary objects are present.

In the Federal Register, paragraph number 8, page 5106, is corrected by replacing the site name with the site number (45-SJ-288) and substituting the following paragraph:

In 1968, human remains representing a minimum of one individual were removed from site 45-SJ-288, Lopez Island, San Juan County, WA. The human remains were removed by a University of Washington Field Party led by David Munsell. The collection was transferred from the University of Washington Anthropology Department to the Burke Museum in the 1970s, and was formerly accessioned in 1996 (Burke Accn. #1996-121). In 2000, the human remains were found in level bags at the museum. No known individual was identified. The one associated funerary object is one bag of mammal and fish bones.

In the Federal Register, paragraph number 9, page 5106, is corrected by the addition of two associated funerary objects, which brings the total to seven, and substitutes the following paragraph:

In 1945, human remains representing a minimum of one individual were removed from the Richardson site (45-SJ-185), Lopez Island, San Juan County, WA. The human remains were excavated by a University of Washington field school under the supervision of Mr. Carroll Burroughs, and transferred to the Burke Museum in 1951 (Burke Accn. #3649). In 2000, the human remains were found in the collection. No known individual was identified. The seven associated funerary objects are six mammal bones and one projectile point.

In the Federal Register, paragraph number 11, page 5106, is corrected by substituting the following paragraph:

Officials of the Burke Museum have determined that, pursuant to 25 U.S.C. 3001(9), the human remains described above represent the physical remains of at least 30 individuals of Native American ancestry. Officials of the Burke Museum also have determined that, pursuant to 25 U.S.C. 3001(3)(A), the 82 objects listed above are reasonably believed to have been placed with or near individual human remains at the time of death or later as part of the death rite or ceremony. Lastly, officials of the Burke Museum have determined that, pursuant to 25 U.S.C. 3001(2), there is a relationship of shared group identity that can be reasonably traced between the Native American human remains and associated funerary objects and the Lummi Tribe of the Lummi Reservation, Washington; Samish Indian Tribe, Washington; and Swinomish Indians of the Swinomish Reservation, Washington.

Representatives of any other Indian tribe that believes itself to be culturally affiliated with the human remains should contact Dr. Peter Lape, Burke Museum, University of Washington, Box 353010, Seattle, WA 98195, telephone (206) 685-3849, before July 28, 2010. Repatriation of the human remains and associated funerary objects to the Lummi Tribe of the Lummi Reservation Washington; Samish Indian Tribe, Washington; and Swinomish Indians of the Swinomish Reservation, Washington, may proceed after that date if no additional claimants come forward.

The Burke Museum is responsible for notifying the Lummi Tribe of the Lummi Reservation, Washington; Samish Indian Tribe, Washington; and Swinomish Indians of the Swinomish Reservation, Washington, that this notice has been published.

Dated: June 22, 2010
Sherry Hutt,
Manager, National NAGPRA Program.

[FR Doc. 2010-15572 Filed 6-25-10; 8:45 am]

BILLING CODE 4312-50-S